DEPARTMENT OF AGRICULTURE

Food and Nutrition Service

Agency Information Collection Activities: School Meals Operations Study: Evaluation of the School-Based Child Nutrition Programs

AGENCY: Food and Nutrition Service (FNS), USDA.

ACTION: Notice.

SUMMARY: In accordance with the Paperwork Reduction Act of 1995, this notice invites the general public and other public agencies to comment on this proposed information collection. This collection is a revision of a currently approved collection for the School Meals Operations (SMO) Study's continuation of the Child Nutrition Program Operations Study II (CN-OPS II, OMB control number 0584-0607) information collection with updated survey instruments beginning in school year (SY) 2020-2021. This study will collect supplemental administrative data, including data on the CN COVID-19 waivers.

DATES: Written comments must be received on or before July 13, 2020.

ADDRESSES: Comments may be sent to: Holly Figueroa, Food and Nutrition Service, U.S. Department of Agriculture, 1320 Braddock Pl, 5th Floor, Alexandria, VA 22314. Comments may also be submitted via fax to the attention of Holly Figueroa at 703-305-2576 or via email to Holly.Figueroa@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Holly Figueroa at 703-305-2105.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Meals Operations Study: Evaluation of the School-based Child Nutrition Programs.

Form Number: N/A.

OMB Number: 0584-0607.

Expiration Date: 08/31/2022.

Type of Request: Revision of a currently approved collection.

Abstract: FNS administers the school-based Child Nutrition (CN) Programs (i.e., the school meal programs) in partnership with States and local school food authorities (SFAs). Section 28(a) of the Richard B. Russell National School Lunch Act authorizes the U.S. Department of Agriculture Secretary to conduct annual national performance assessments of the school meal programs. FNS plans to conduct this annual assessment through the School Meals Operations (SMO) Study for school year (SY) 2020-2021. The SMO Study will also collect timely data from State agencies on the use and effectiveness of the CN COVID-19 waivers, as required by the Families First Coronavirus Response Act (PL 116-127).

The SMO Study is a revision of the currently approved Child Nutrition Program Operations Study II (CN-OPS II). It will collect timely data on policy, administrative, and operational issues on the school-based CN Programs, including, but not limited to, the preparation of the program budget, development and implementation of program policy and regulations, and identification of areas for technical assistance and training. Specifically, this study will help FNS obtain:

1. General descriptive data on the characteristics of school-based CN Programs to inform the budget process and answer questions about topics of current policy interest;

2. Data on program operations to identify potential topics for training and technical assistance for SFAs and State Agencies (SAs) responsible for administering the CN programs;

3. Administrative data to identify program trends and predictors;

4. Information on the use and effectiveness of the CN COVID-19 waivers.

The activities to be conducted subject to this notice include:

• Collecting administrative data from 69 State Agency Directors that are reported on forms FNS-10, Report of School Program Operations, FNS-418, Report of the Summer Food Service Program for Children, and FNS-44, Report of the Child and Adult Care Food Program (which are approved under OMB# 0584-0594 Food Programs Reporting System (FPRS), which is currently under review at OMB).

• Conducting a web survey of 69 State Agency Directors.

• Conducting a web survey of 1,266 SFA Directors.

Note: Personally identifiable information (PII) will not be used to retrieve survey records or data.

Affected Public: State, Local, and Tribal Governments: Respondent groups identified include: (1) SFA Directors for public schools, and (2) State Agency Directors from all 50 States, 5 territories and the District of Columbia.

Estimated Number of Respondents: The total estimated number of respondents is 1,341. This includes (1) 69 State Agency Directors who are expected to participate in the administrative data collection and the State Agency Director survey (3 of the 69 State Agency Directors are also expected to participate in the pretest), and (2) 1,272 SFA Directors. Six SFA Directors are expected to participate in the pre-test of the SFA Director web survey; these pretest participants are unique respondents and will not be included in the sample for the SFA survey. An additional 1,266 public SFA Directors will be included in the sample for the SFA Director web survey, of which 1,012 are expected to respond. The total number of respondents also includes 254 non-respondents whom FNS expects will not respond to the study activities.

Estimated Number of Responses per Respondent: State Agency Director respondents will be asked to complete an initial telephone meeting and respond to an administrative data request one time. SFA Director and State Agency Director respondents will be asked to complete their respective web surveys one time. In the event of non-response, State Agency Directors may receive a reminder email, phone call, and a last chance postcard until the target of 69 respondents is reached. Similarly, SFA Directors who do not respond may receive reminders via email, phone, or post card until the target number of 1,012 respondents is reached. FNS estimates that respondents will average 5.47 responses (5,946 responses/1,087 respondents) across the entire collection, with non-respondents averaging 10.5 responses (2,676 responses/254 non-respondents). Across all participants in the collection (respondents and non-respondents) the average number of responses is 6.4 (8,622 responses/1,341 total respondents).

Estimated Total Annual Responses: 8,622.

Estimated Time per Response: The estimated time per response ranges from 3 minutes (0.05 hours) to 20 hours depending on the instrument, as shown in the table below, with an average estimated time for all participants of 17 minutes (0.28 hours) per response.

Estimated Total Annual Burden on Respondents: 146,635 minutes (2,443.92 hours). See the table below (Table 1) for estimated total annual burden for each type of respondent.

Pamilyn Miller,
Administrator, Food and Nutrition Service.

[FR Doc. 2020-10205 Filed 5-12-20; 8:45 am]

BILLING CODE 3410-30-P